FEDERAL COMMUNICATIONS COMMISSION

Information Collections Being Submitted for Review and Approval to the Office of Management and Budget

AGENCY: Federal Communications Commission.

ACTION: Notice and request for comments.

SUMMARY: The Federal Communications Commission, as part of its continuing effort to reduce paperwork burden invites the general public and other Federal agencies to take this opportunity to comment on the following information collection(s), as required by the Paperwork Reduction Act (PRA) of 1995. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before August 12, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via e-mail to Nicholas_A._Fraser@omb.eop.gov and to the Federal Communications Commission via e-mail to PRA@fcc.gov and Paul.Laurenzano@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Paul Laurenzano on (202) 418-1359.

SUPPLEMENTARY INFORMATION:

OMB Control Number: 3060-0169.

Title: Section 43.51 and 43.53, Reports and Records of Communications Common Carriers and Affiliates.

Form No.: N/A.

Type of Review: Extension of a currently approved collection.

Respondents: Business or other for-profit.

Number of Respondents: 63 respondents; 1,218 responses.

Estimated Time per Response: .25 hours to 25 hours.

Frequency of Response: On occasion and annual reporting requirements, recordkeeping requirement and third party disclosure requirement.

Obligation to Respond: Required to obtain or retain benefits. Statutory authority for this information collection is contained in 47 U.S.C. 151-154, 160, 161, 201-205, 211, 218, 220, 226, 303(g), 303(r), and 332.

Total Annual Burden: 5,247 hours.

Total Annual Cost: N/A.

Privacy Act Impact Assessment: N/A.

Nature and Extent of Confidentiality: In general, there is no need for confidentiality. However, respondents may request materials or information submitted to the Commission be withheld from public inspection under 47 CFR 0.459 of the Commission's rules.

Needs and Uses: The Commission will submit this information collection to the Office of Management and Budget (OMB) in order to obtain the full three year clearance from them. The Commission is requesting OMB approval for an extension (no change in the reporting, recordkeeping and/or third party disclosure requirements).

There is no change in the Commission's previous burden estimates.

Sections 43.51 and 43.53 require common carriers to submit reports so that the FCC can monitor various activities of these carriers to determine the impact on the just and reasonable rates required by the Communications Act of 1934, as amended.

Section 43.51 requires that any communications common carrier described in paragraph 43.51(b) of the Commissions' rules file with the Commission, within 30 days of execution a copy of each contract, agreement, concession, license, authorization, operating agreement or other agreement to which it is a party and any amendments.

Section 43.53 requires each communications common carrier engage directly in the transmission or reception of telegraph communications between the continental United States and any foreign country to file a report with the Commission within 30 days of the date of any arrangement concerning the division of the total telegraph charges on such communications other than transiting.

Federal Communications Commission.
Bulah P. Wheeler,
Deputy Manager, Office of the Secretary, Office of Managing Director.

[FR Doc. 2011-17560 Filed 7-12-11; 8:45 am]

BILLING CODE 6712-01-P